DEPARTMENT OF THE INTERIOR

Bureau of Land Management

[OR-014-04-1430-EU; GP4-0159]

Direct Land Sale of Public Lands, OR 58506

AGENCY: Bureau of Land Management (BLM), Interior.

ACTION: Notice of realty action.

SUMMARY: An 8.78 acre parcel in Klamath County, Oregon, is being considered for a direct sale to the Bonanza View Dairy to resolve an unintentional unauthorized use involving lands that are under the jurisdiction of the BLM. Bonanza View Dairy owns the adjacent lands next to the BLM parcels. BLM and the Public have legal access to the public lands via an easement purchased from Bonanza View Dairy on August 28, 1972. No significant resource values will be affected by this disposal. The parcels proposed for sale are identified as suitable for disposal in the Klamath Falls Resource Area Resource Management Plan, dated June 2, 1995.

DATES: Submit comments on or before August 30, 2004.

ADDRESSES: Address all written comments concerning this notice to Jon Raby, Klamath Falls Resource Area Field Manager, Klamath Falls Field Office, 2795 Anderson Ave., Building 25, Klamath Falls, Oregon 97603. Electronic format submittal will not be accepted.

FOR FURTHER INFORMATION CONTACT: Linda Younger, Realty Specialist, at (541) 883-6916.

SUPPLEMENTARY INFORMATION: The following described public land in Klamath County, Oregon, is suitable for sale under Sections 203 and 209 of the Federal Land Policy and Management Act of 1976 (90 Stat. 2750, 43 U.S.C. 1713 and 1719). The parcels proposed for sale are identified as follows:

Willamette Meridian, Oregon

T. 39 S., R. 11 E.,

Sec. 21, lots 1 and 4.

The area described contains 8.78 acres, more or less. These parcels have been examined and found suitable for sale at not less than the appraised market value. The appraised market value for these parcels has been determined to be $3,160.00.

In accordance with 43 CFR 2711.3-3(a)(5), direct sale procedures may be utilized to resolve inadvertent unauthorized use or occupancy of the lands.

The proponent, Bonanza View Dairy, will be allowed 30 days from receipt of a written offer to submit a deposit of at least 20 percent of the appraised market value of the parcel, and 180 days thereafter to submit the balance.

The following rights, reservations, and conditions will be included in the patent conveying the land:

1. A reservation to the United States for a right-of-way for ditches and canals constructed by the authority of the United States. Act of August 30, 1890 (43 U.S.C. 945).

2. A reservation to the United States for all oil, gas and geothermal resources in the land in accordance with Section 209 of the Federal Land Policy and Management Act of 1976 (43 U.S.C. 1719).

3. The patent would also include a notice and indemnification statement under the Comprehensive Environmental Response, Compensation and Liability Act (42 U.S.C. 9620) holding the United States harmless from any release of hazardous materials that may have occurred as a result of the unauthorized use of the property by other parties.

The mineral interests being offered for conveyance have no known mineral value. Acceptance of a direct sale offer constitutes an application for conveyance of the mineral interest. In addition to the full purchase price, a nonrefundable fee of $50 will be required for the purchase of the mineral interests to be conveyed simultaneously with the sale of the land, with the exception of all leaseables, including oil, gas and geothermal interests, which will be reserved to the United States in accordance with Section 209 of the Federal Land Policy and Management Act of 1976 (43 U.S.C. 1719).

The land described is segregated from appropriation under the public land laws, including the mining laws, with the exception of sales under the above cited statutes, pending disposition of this action or 270 days from the date of publication of this notice, whichever occurs first.

Detailed information concerning this land sale, including the reservations, sale procedures and conditions, appraisal, planning and environmental documents, and mineral report is available for review at the Klamath Falls Field Office, Bureau of Land Management, 2795 Anderson Ave. Building 25, Klamath Falls, Oregon 97603.

Objections will be reviewed by the Lakeview District Manager who may sustain, vacate, or modify this realty action. In the absence of any objections, this proposal will become the final determination of the Department of the Interior.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law.

BLM will make available for public inspection in their entirety all submissions from organizations or businesses, and from individuals identifying themselves as representatives or officials of organizations or businesses.

(Authority: 43 CFR 2711.1-2)
Dated: April 19, 2004.
Jon Raby,
Field Manager, Klamath Falls Resource Area.

[FR Doc. 04-15884 Filed 7-13-04; 8:45 am]

BILLING CODE 4310-33-P